ENVIRONMENTAL PROTECTION AGENCY

40 CFR Part 52

[EPA-R04-OAR-2022-0660; FRL-11572-01-R4]

Air Plan Approval; FL; Miscellaneous SIP Changes

AGENCY: Environmental Protection Agency (EPA).

ACTION: Proposed rule.

SUMMARY: The Environmental Protection Agency (EPA) is proposing to approve a State Implementation Plan (SIP) revision submitted by the Florida Department of Environmental Protection (FDEP) on April 1, 2022. The proposed revision corrects definitions, updates, and removes outdated references, clarifies rule applicability in several rules within the Florida SIP, and removes methods to determine visible emissions.

DATES: Comments must be received on or before December 28, 2023.

ADDRESSES: Submit your comments, identified by Docket ID No. EPA-R04-OAR-2022-0660 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www.epa.gov/dockets/commenting-epa-dockets.

FOR FURTHER INFORMATION CONTACT: Tiereny Bell, Air Regulatory Management Section, Air Planning and Implementation Branch, Air and Radiation Division, U.S. Environmental Protection Agency, Region 4, 61 Forsyth Street SW, Atlanta, Georgia 30303-8960. Ms. Bell can be reached via phone number (404) 562-9088 or via electronic mail at bell.tiereny@epa.gov.

SUPPLEMENTARY INFORMATION:

I. Background

On April 1, 2022, FDEP submitted a SIP revision to EPA regarding Chapter 62-296, Florida Administrative Code (F.A.C.), Stationary Sources, of the Florida SIP. In Florida's April 1, 2022, submission, the State is requesting that EPA approve changes to the following rules in the Florida SIP: Rule 62-296.320(4), General Pollutant Emission Limiting Standards; ¹ Rule 62-296.406, Fossil Fuel Steam Generators with Less Than 250 Million Btu Per Hour Heat Input, New and Existing Emissions Units; Rule 62-296.602, Primary Lead-Acid Battery Manufacturing Operations; Rule 62-296.603, Secondary Lead Smelting Operations; Rule 62-296.604, Electric Arc Furnace Equipped Secondary Steel Manufacturing Operations; Rule 62-296.700, Reasonably Available Control Technology (RACT) Particulate Matter; Rule 62-296.702, Fossil Fuel Steam Generators; Rule 62-296.704, Asphalt Concrete Plants; Rule 62-296.705, Phosphate Processing Operations; Rule 62-296.707, Electric Arc Furnaces; Rule 62-296.708, Sweat or Pot Furnaces; Rule 62-296.711, Materials Handling, Sizing, Screening, Crushing and Grinding Operations; and Rule 62-296.712, Miscellaneous Manufacturing Process Operations.² The April 1, 2022, SIP revision that is the subject of this proposed rulemaking corrects definitions, updates and removes outdated references, and clarifies applicability in these rules, and it removes methods to determine visible emissions in Rules 62-296.320 and 62-296.406. Further discussion of what the State submitted and why EPA is proposing to approve these changes to the Florida SIP is provided in the following section.

¹ On October 13, 2023, the State submitted a letter to EPA withdrawing its request to revise subsection (3) of Rule 62-296.320. Thus, EPA is not acting on Rule 62-296.320(3). For further information, please see the docket for this proposed rulemaking, which includes Florida's October 13, 2023, withdrawal letter.

² On April 1, 2022, FDEP submitted a number of SIP revisions to Chapter 62-296, Stationary Sources. These other SIP revisions not described herein will be acted on through other rulemakings. See also, footnote 1 regarding subparagraph (3) of Rule 62-296.320.

II. Analysis of Florida's April 1, 2022, SIP Revision

A. Analysis of Rule 62-296.320

In the April 1, 2022, submission, the State requests that EPA remove a reference to the Ringlemann Chart and revise subparagraph (4) of Rule 62-296.320 to include citations to the Code of Federal Regulations for the applicable EPA test methods—Methods 5, 9 and 17—and state that EPA test methods are adopted and incorporated by reference at Rule 62-204.800, instead of Rule 62-297.401, Compliance Test Methods, due to the repeal of Rule 62-297.401.³

³ Florida repealed Rule 62-297.401, State effective on July 10, 2014. On October 13, 2017, EPA approved the removal of Rule 62-297.401 from Florida's SIP. See 82 FR 47636. Rule 62-204.800 adopts and incorporates by reference Federal rules cited throughout FDEP's air pollution rules.

The Ringlemann Chart visible emissions evaluation system evolved from the concept developed by Maximillian Ringelmann in the late 1800s, in which a chart with calibrated black grids on a white background was used to measure black smoke emissions from coal-fired boilers. The Ringelmann Chart was adopted by the U.S. Bureau of Mines in the early 1900s and was used extensively in efforts to assess and control emissions. In the early 1950s, the Ringelmann concept was expanded to other colors of smoke by the introduction of the concept of “equivalent opacity.” Equivalent opacity meant that the white smoke was equivalent to a Ringelmann number in its ability to obscure the view of a background. In some States, equivalent opacity is still measured in Ringelmann numbers, whereas in others a 0 to 100 percent scale is used. EPA stopped using Ringelmann numbers in the New Source Performance Standards (NSPS) when the revised EPA Method 9 was promulgated in 1974.⁴ All NSPS visible emission limits are stated in percent opacity units, although some State regulations still specify the use of the Ringelmann system. EPA Method 9 is based solely on opacity.

⁴ For further information regarding EPA's revised Method 9 and opacity, see “Section 3.12 Method 9-Visible Determination of the Opacity of Emissions from Stationary Sources,” available at https://www3.epa.gov/ttnemc01/qahandbook3/qaiii%201977/qa%20vol%20iii%20-%20aug%201977%20-%20sec%203-12.pdf.

EPA conducted extensive field studies on the accuracy and reliability of the Method 9 opacity evaluation technique when the method was revised and repromulgated in response to industry challenges concerning certain NSPS opacity standards and methods. The studies showed that visible emissions can be assessed accurately by properly trained and certified observers. Two central features of Method 9 involve taking opacity readings of plumes at 15-second intervals and averaging 24 consecutive readings (6 minutes) unless some other time is specified in the emission standard (some NSPS specify a 3-minute averaging period). EPA is proposing to approve removal of the reference to the Ringlemann Chart because studies found that Method 9 was more accurate and reliable for an evaluation technique than the use of the Ringelmann numbers, EPA no longer uses Ringelmann numbers in the NSPS, and the State rule continues to use Method 9 for opacity. Thus, removal of the reference to the Ringlemann Chart will not interfere with any applicable requirement concerning attainment or any other applicable Clean Air Act (CAA) requirement.⁵

⁵ See CAA section 110(l).

B. Analysis of Rule 62-296.406

In the April 1, 2022, submission, the State requests that EPA revise Rule 62-296.406, currently titled “Fossil Fuel Steam Generators with Less Than 250 Million Btu Per Hour Heat Input, New and Existing Emissions Units,” by removing the unnecessary phrases “New and Existing Emissions Units” from the rule title and “new and existing” from the rule text. EPA is proposing to approve these changes because the rule will continue to apply to new and existing emissions units that meet the rule's unchanged applicability criteria.

FDEP is also requesting that EPA approve revisions to Rule 62-296.406(1), which remove references to repealed FDEP Method 9. Subparagraph 296.406(1) requires subject sources to comply with a visible emissions limit of 20 percent opacity. However, the rule also allows sources two options for exceeding 20 percent opacity: one six-minute period per hour during which opacity cannot exceed 27 percent, or one two-minute period per hour during which opacity cannot exceed 40 percent. The rule requires that the option selected by the source be specified in the source's construction and operation permits. The SIP revision removes the exception that allows up to 40 percent opacity over a two-minute period per hour but retains the exception that allows up to 27 percent opacity for one six-minute period per hour. The option proposed for deletion, which allows opacity of no more than 40 percent over a two-minute average, stems from, and was consistent with, FDEP Method 9, which measured opacity on a two-minute average; however, Florida removed this method from its State rules on July 10, 2014. The option that is retained, allowing one exceedance per hour of an opacity up to 27 percent over a six-minute average, is consistent with, EPA Method 9, which measures opacity on a six-minute average. While the averaging times and percent opacity allowed in the two exceptions differs, the two exceptions are approximately equivalent on a six-minute average.⁶ Subparagraph 296.406(1) is also revised to add the phrase “shall not exceed”; delete the word “either”; add the word “one” before the word hour; add the word “period” after one-hour; change the word percentile to percent; and delete the provision that provided that the selected exception to the 20 percent opacity requirement (27 percent for a six-minute average per hour or 40 percent for two-minute period per hour) would be specified in a permit. These revisions either remove language to correspond to the removal of the 40 percent opacity exception or clarify rule language. With such revisions, the proposed rule would state: “Visible Emissions—shall not exceed 20 percent opacity, except for one six-minute period per one-hour period, which shall not exceed 27 percent.” EPA is proposing to approve these changes because Florida has removed FDEP Method 9 from its State rules, the exception is approximately equivalent to the 27 percent exception that remains in the rule, and the changes will not interfere with any applicable requirement concerning attainment or any other applicable CAA requirement.

⁶ See the March 17, 2023, EPA memorandum to the file re: FL-167-1, April 1, 2022; DEP Method 9, which is included in the docket for this proposed rulemaking. This memorandum memorializes a conversation between EPA and FL DEP during which Florida confirmed that the difference between the two options is negligible since the data points are measured by a human observer in five percent increments.

C. Analysis of Rules 62-296.602, .603, and .604

As discussed below, the April 1, 2022, SIP revision contains several changes to Rule 62-296.602, Primary Lead-Acid Battery Manufacturing Operations; Rule 62-296.603, Secondary Lead Smelting Operations; and Rule 62-296.604, Electric Arc Furnace Equipped Secondary Steel Manufacturing Operations.

The April 1, 2022, submission revises Rules 62-296.602(3), 62-296.603(3), and 62-296.604(3) by requiring the use of EPA's air quality models as provided in 40 CFR part 51, Appendix W; adding a citation to 40 CFR part 51, Appendix W; stating that EPA test methods are adopted and incorporated by reference at Rule 62-204.800; and clarifying that the ambient air quality standard for lead is the national standard. EPA is proposing to approve the aforementioned changes because they will not interfere with any applicable requirement concerning attainment or any other applicable CAA requirement.

D. Analysis of Rules 62-296.700, .702, .704, .705, .707, .708, .711, and .712

As discussed below, the April 1, 2022, submission requests several changes to Rule 62-296.700, Reasonably Available Control Technology (RACT) Particulate Matter; Rule 62-296.702, Fossil Fuel Steam Generators; Rule 62-296.704, Asphalt Concrete Plants; Rule 62-296.705, Phosphate Processing Operations; Rule 62-296.707, Electric Arc Furnace; Rule 62-296.708, Sweat or Pot Furnaces; Rule 62-296.711, Materials Handling, Sizing, Screening, Crushing and Grinding Operations; and Rule 62-296.712, Miscellaneous Manufacturing Process Operations.

The April 1, 2022, submission seeks to clarify Rules 62-296.700(1) and (2) by updating certain rule citations and revising the term “existing emissions unit” to “any emissions unit issued an air permit on or before May 30, 1988,” because Florida's PM RACT rules only apply to emission units that have been issued air permits on or before May 30, 1988.⁷ The April 1, 2022 submission also deletes general language that provided that the rule applied in “a particulate matter air quality maintenance area or in the area of influence of such an area,” and instead includes language to clarify what areas of the State are subject to RACT for TSP by specifically identifying those geographic areas. Additionally, the revision moves language from Rule 62-296.700's applicability section at .700(1) that provides an exception for an emissions unit which has received a determination of Best Available Control Technology to Rule 62-296.700's exemptions section at .700(2). These changes to 62-296.700(1) and (2) clarify applicability of the rule. Rules 62-296.702, .704, .705, .707, .708, .711, and .712 are revised to include citations to applicable EPA test methods, as described in 40 CFR part 60, Appendices A-2, A-3, A-4, A-6, A-7, and B, and state that EPA test methods are adopted and incorporated by reference in Rule 62-204.800. In addition, the revisions delete a sentence in Rule 62-296-702(3) stating that EPA Method 5 may be used to demonstrate compliance because this provision already specifies when EPA Method 5 may be used. EPA is proposing to approve these changes as they do not change the applicability of the rule and will not interfere with any applicable requirement concerning attainment or any other applicable CAA requirement.

⁷ On May 19, 1988, Florida submitted revisions to the SIP regarding particulate matter (PM) as part of the implementation of the PM10 standard (PM with an aerodynamic diameter of 10 microns or less). The rules submitted under the May 19, 1988, date was State effective on May 30, 1988. In these revisions, which were approved by EPA on February 1, 1990 (55 FR 3403), EPA approved Florida's changes to its particulate matter SIP that clarify what areas of the State were covered by the PM (total suspended particulates (TSP)) RACT rules and the location of PM (TSP) air quality maintenance areas and areas of influence (areas within 50 kilometers outside the boundary of an air quality maintenance area). EPA also clarified in that notice that RACT for existing sources would continue to apply in TSP nonattainment areas, but RACT for new and modified sources was rescinded. That notice addressed Rule 17-2.650, which was later recodified to become Rules 62-296.700 through 62-296.712.

III. Incorporation by Reference

In this document, EPA is proposing to include in a final EPA rule regulatory text that includes incorporation by reference. In accordance with requirements of 1 CFR 51.5, and as discussed in Section II of this preamble, EPA is proposing to incorporate by reference Florida Rule 62-296.320(4), General Pollutant Emission Limiting Standards, state effective July 10, 2014; ⁸ Rule 62-296.406, Fossil Fuel Steam Generators with Less Than 250 Million Btu Per Hour Heat Input, State effective November 5, 2020; Rule 62-296.602, Primary Lead-Acid Battery Manufacturing Operations, State effective July 10, 2014; Rule 62-296.603, Secondary Lead Smelting Operations, State effective July 10, 2014; Rule 62-296.604, Electric Arc Furnace Equipped Secondary Steel Manufacturing Operations, state effective July 10, 2014; Rule 62-296.700, Reasonably Available Control Technology (RACT) Particulate Matter, State effective August 14, 2019; Rule 62-296.702, Fossil Fuel Steam Generators, State effective July 10, 2014; Rule 62-296.704, Asphalt Concrete Plants, State effective July 10, 2014; Rule 62-296.705, Phosphate Processing Operations, State effective July 10, 2014; Rule 62-296.707, Electric Arc Furnace, State effective July 10, 2014; Rule 62-296.708, Sweat or Pot Furnaces, State effective July 10, 2014; Rule 62-296.711, Materials Handling, Sizing, Screening, Crushing and Grinding Operations, State effective July 10, 2014; and Rule 62-296.712, Miscellaneous Manufacturing Process Operations, State effective July 10, 2014. EPA has made, and will continue to make, these materials generally available through www.regulations.gov and at the EPA Region 4 office (please contact the person identified in the “For Further Information Contact” section of this preamble for more information).

⁸ Portions of Rule 62-296.320 that are not addressed in this proposed rulemaking would remain in the Florida SIP with a State effective March 13, 1996.

IV. Proposed Action

For the reasons discussed above, EPA is proposing to approve the April 1, 2022, Florida SIP revision consisting of amendments to Rules 62-296.320(4), 62-296.406, 62-296.602, 62-296.603, 62-296.604, 62-296.700, 62-296.702, 62-296.704, 62-296.705, 62-296.707, 62-296.708, 62-296.711, and 62-296.712 in the Florida SIP.

V. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely proposes to approve State law as meeting Federal requirements and does not impose additional requirements beyond those imposed by State law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The State of Florida did not evaluate environmental justice considerations as part of its SIP submittal; the CAA and applicable implementing regulations neither prohibit nor require such an evaluation. EPA did not perform an EJ analysis and did not consider EJ in this proposed action. Due to the nature of the action being proposed here, this proposed action is expected to have a neutral to positive impact on the air quality of the affected area. Consideration of EJ is not required as part of this proposed action, and there is no information in the record inconsistent with the stated goal of E.O. 12898 of achieving environmental justice for people of color, low-income populations, and Indigenous peoples.

List of Subjects in 40 CFR Part 52

Environmental protection, Air pollution control, Incorporation by reference, Intergovernmental relations, Nitrogen dioxide, Ozone, Particulate matter, Reporting and recordkeeping requirements, Sulfur oxides.

Authority: 42 U.S.C. 7401 et seq.

Dated: November 21, 2023.
Jeaneanne Gettle,
Acting Regional Administrator, Region 4.

[FR Doc. 2023-26107 Filed 11-27-23; 8:45 am]

BILLING CODE 6560-50-P